DEPARTMENT OF HEALTH AND HUMAN SERVICES

Substance Abuse and Mental Health Services Administration (SAMHSA)

Notice of Meetings

Pursuant to Public Law 92-463, notice is hereby given of the following meetings of SAMHSA Special Emphasis Panels I in May and June 2000.

A summary of the meetings and a roster of the members may be obtained from: Ms. Coral Sweeney, Review Specialist, SAMHSA, Office of Policy and Program Coordination, Division of Extramural Activities, Policy, and Review, 5600 Fishers Lane, Room 17-89, Rockville, Maryland 20857. Telephone: 301-443-2998.

Substantive program information may be obtained from the individual named as Contact for the meeting listed below.

The meetings will include the review, discussion and evaluation of individual grant applications. These discussions could reveal personal information concerning individuals associated with the applications. Accordingly, these meetings are concerned with matters exempt from mandatory disclosure in Title 5 U.S.C. 552b(c) (6) and 5 U.S.C. App.2, § 10(d).

Committee Name: SAMHSA Special Emphasis Panel I (SEP I).

Meeting Dates: May 15-19, 2000.

Place: Bethesda Marriott, 5151 Pooks Hill Road, Bethesda, MD 20814.

Closed: May 15-19, 2000, 8:30 a.m.-5 p.m./adjournment.

Panel: Targeted Capacity Expansion, PA 00-001.

Contact: Peggy Thompson, Lead Review Administrator, Room 17-89, Parklawn Bldg. Telephone: 301-443-9912 / FAX: 301-443-3437.

Committee Name: SAMHSA Special Emphasis Panel I (SEP I).

Meeting Dates: May 23-26, 2000.

Place: Bethesda Marriott, 5151 Pooks Hill Road, Bethesda, MD 20814.

Closed: May 23-26, 2000.

Panel: Centers for the Application of Prevention Technologies, SP 00-005.

Contact: Peggy Riccio, Review Administrator, Room 17-89, Parklawn Building, 301-443-9996 and FAX 301-443-3437.

Committee Name: SAMHSA Special Emphasis Panel I (SEP I).

Meeting Dates: June 5-8, 2000.

Place: Bethesda Marriott, 5151 Pooks Hill Road, Bethesda, MD 20814.

Closed: June 5-8, 2000, 8:30 a.m.-5 p.m./Adjournment.

Panel: State Incentive Program, SP 00-004.

Contact: Stanley Kusnetz, Review Administrator, (301) 443-3042, Parklawn Building, Room 17-89.

Committee Name: SAMHSA, Special Emphasis Panel I (SEP I).

Meeting Dates: June 12-15, 2000.

Place: Bethesda Marriott, 5151 Pooks Hill Road, Bethesda, MD 20814.

Closed: June 12-15, 2000, 8:30 a.m.-5 p.m./Adjournment.

Panel: Community Action Grants for Service Systems Change, CMHS PA 00-003.

Contact: Raquel Crider, Review Administrator, (301) 443-5063, Parklawn Building, Room 17-89.

Committee Name: SAMHSA Special Emphasis Panel I (SEP I).

Meeting Dates: June 19-23, 2000.

Place: Bethesda Marriott, 5151 Pooks Hill Road, Bethesda, MD 20814.

Closed: June 19-23, 2000, 8:30 a.m.-5:00 p.m./Adjournment.

Panel: Community Action Grants for Service Systems Change, CSAT PA 00-002.

Contact: Peggy Riccio, Review Administrator, Parklawn Building, Room 17-89, (301) 443-9996.

Committee Name: SAMHSA Special Emphasis Panel I (SEP I).

Meeting Dates: June 19-23, 2000.

Place: Bethesda Marriott, 5151 Pooks Hill Road, Bethesda, MD 20814.

Closed: June 19-23, 2000, 8:30 a.m.-5:00 p.m./Adjournment.

Panel: Community Treatment Program, CSAT, PA 99-050.

Contact: Danielle Johnson, Review Administrator, (301) 443-6092, Parklawn Building, Room 17-89.

Committee Name: SAMHSA Special Emphasis Panel I (SEP I).

Meeting Dates: June 26-30, 2000.

Place: Bethesda Marriott, 5151 Pooks Hill Road, Bethesda, MD 20814.

Closed: June 26-30, 2000, 8:30 a.m.-5:00 p.m./Adjournment.

Panel: Youth Violence Cooperative Agreement SM 00-005.

Contact: Michael Koscinski, Review Administrator, Room 17-89, Parklawn Building, (301) 443-6094.

This notice is being published less than 15 days prior to the meeting due to the urgent need to meet timing limitations imposed by the review and funding cycle.

Dated: May 1, 2000.
Coral Sweeney,
Review Specialist, Substance Abuse and Mental Health Services Administration.

[FR Doc. 00-11533 Filed 5-8-00; 8:45 am]

BILLING CODE 4162-20-P